DEPARTMENT OF TRANSPORTATION

National Highway Traffic Safety Administration

[Docket No. NHTSA-2026-0034]

Notice and Request for Comment; Proposal for a New United Nations Global Technical Regulation on Automated Driving Systems (ADS)

AGENCY: National Highway Traffic Safety Administration (NHTSA).

ACTION: Notice and request for comments on a proposed Global Technical Regulation (GTR) for Automated Driving Systems; extension of comment period.

SUMMARY: The United Nations Working Party on Automated/Autonomous and Connected Vehicles (GRVA), under the World Forum for the Harmonization of Vehicle Regulations (WP.29) at United Nations Economic Commission for Europe (UNECE), has proposed a draft Global Technical Regulation (GTR) for Automated Driving Systems (ADS). NHTSA is seeking public comment on the draft GTR to help inform the U.S. government's position, including how that position could relate to any future domestic actions regarding the safety and performance of Automated Driving Systems. With this notice, NHTSA is announcing a 15-day extension of the public comment period for this request for comment.

DATES: Comments must be received by March 10, 2026. Late-filed comments may be considered so far as possible without incurring additional expense or delay.

ADDRESSES: You may submit comments identified by the Docket No. NHTSA-2026-0034 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Caitlin McKeighan, Office of International Policy, Fuel Economy, and Consumer Standards, by phone at (202) 923-1215 or email at c.mckeighan@dot.gov, National Highway Traffic Safety Administration, W45-117, U.S. Department of Transportation, 1200 New Jersey Avenue SE, Washington, DC 20590.

SUPPLEMENTARY INFORMATION: On January 23, 2026, NHTSA published in the Federal Register a request for comment on a proposed Global Technical Regulation (GTR) for Automated Driving Systems. The public comment period for the request for comment was scheduled to end on February 23, 2026. As of the date of this notice, NHTSA has received an informal request to extend the comment period for this notice. After thorough consideration of this request, NHTSA is extending the public comment period for this request for comment by 15 days to March 10, 2026.

Authority: 49 U.S.C. 30111, as delegated at 49 CFR part 1.95.

Issued on February 23, 2026.
Jonathan Morrison,
Administrator.

[FR Doc. 2026-03854 Filed 2-25-26; 8:45 am]

BILLING CODE 4910-59-P